DEPARTMENT OF AGRICULTURE

Natural Resources Conservation Service

Rehabilitation of Floodwater Retarding Structure No. 6 of the Big Creek Watershed, Craighead County, AR

AGENCY: Natural Resources Conservation Service, DOA.

ACTION: Notice of a finding of no significant impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the rehabilitation of Floodwater Retarding Structure No. 6 of the Big Creek Watershed, Craighead County, Arkansas.

FOR FURTHER INFORMATION CONTACT: Kalven L. Trice, State Conservationist, Natural Resources Conservation Service, Rm 3416, Federal Building, 700 West Capital Avenue, Little Rock, AR 72201-3225, Telephone (501) 301-3100.

SUPPLEMENTARY INFORMATION: The environmental assessment of this federally assisted action indicates that the project will not cause significant local, regional, or national impacts on the environment. As a result of these findings, Kalven L. Trice, State Conservationist, has determined that the preparation and review of an environmental impact statement is not needed for this project.

The project will rehabilitate Floodwater Retarding Structure (FWRS) No. 6 to maintain the present level of flood control benefits and comply with the current dam safety and performance standards.

Rehabilitation of FWRS No. 6 will require the dam to be modified to meet current performance and safety standards for a high hazard dam. The modification will consist of installing a new 30-inch principal spillway with an ungated two stage outlet, widening the auxiliary spillway from 100 to 159 feet, and raising the top of dam from elevation 352.5 to elevation 353.1 to safely pass the probable maximum flood. All disturbed areas will be planted to plants that have wildlife values. The proposed work will not affect any prime farmland, endangered or threatened species, wetlands, or cultural resources.

Federal assistance will be provided under authority of the Small Watershed Rehabilitation Amendments of 2000 (section 313, Public Law 106-472). Total project cost is estimated to be $583,000, of which $421,300 will be paid from the Small Watershed Rehabilitation funds and $161,700 from local funds.

The notice of a Finding of No Significant Impact (FONSI) has been forwarded to the Environmental Protection Agency and to various Federal, State, and local agencies and interested parties. A limited number of copies of the FONSI are available to fill single copy requests at the above address. Basic data developed during the environmental assessment are on file and may be reviewed by contacting Kalven L. Trice, State Conservationist.

No administrative action on implementation of the proposal will be taken until 30 days after the date of this publication in the Federal Register.

Dated: November 17, 2006.
Kalven L. Trice,
State Conservationist.

[FR Doc. E6-19772 Filed 11-21-06; 8:45 am]

BILLING CODE 3410-16-P